DEPARTMENT OF JUSTICE

National Institute of Corrections

Extension/Change in Solicitation for a Cooperative Agreement—“Executive Leadership Training for Women”

AGENCY: National Institute of Corrections, Justice.

ACTION: Extension/change in solicitation for a cooperative agreement.

SUMMARY: The Department of Justice, National Institute of Corrections (NIC) announces an extension of the closing date and change in requirements and funding to the notice of a solicitation for a cooperative agreement in Fiscal Year 2001 for “Executive Leadership Training for Women” which was printed in the May 1, 2001 edition (Volume 66, Number 84).

Change in Requirement and Funding: The closing date is extended to June 22, 2001. The change in the closing date eliminates the requirement of attendance at the June 20-24, 2001 class at the Searles Castle and is substituted with the requirement to attend a minimum of two days of a class at the Searles Castle during the week of July 30-August 3, 2001. An additional funding amount of $50,000 is added to the agreement to assure adequate resources to implement an evaluation component of the program. Note that the applicant is not required to fully develop the model within the application but must demonstrate a willingness to work in collaboration with the recipient of the current cooperative agreement “Assessment and Impact of Executive Leadership Training for Women.” Some possible evaluation models however may be suggested or discussed. It is anticipated that additional multi-year funding will be available to enhance the evaluation component. Applicants may request a copy of the current program's participant manual by contacting Andie Moss through email or phone as listed below.

Deadline for the Receipt of Applications: Applications must be received by 4:00 pm Eastern Daylight Savings Time on Friday, June 22, 2001. They should be addressed to: Director, National Institute of Corrections, 320 First Street, NW., Washington, DC 20534. Hand delivered applications should be brought to 500 First Street, NW., 7th Floor, Washington, DC 20534. The front desk will call Bobbi Tinsley at (202) 307-3106, extension 0 for pickup.

Addresses and Further Information: A copy of this announcement, application and forms may be obtained through the NIC web site: http://www.nicic.org (Click on “Cooperative Agreements”). If a written copy is needed contact Judy Evens, Cooperative Agreement Control Office 1-800-995-6423 x 44222 or (202) 307-3106 ext. 44222, or e-mail her at jevens@bop.gov) All technical assistance/or programmatic questions concerning the announcement should be directed to Andie Moss, National Institute of Corrections, 320 First Street, NW., Room 5007, Washington, DC 20534 or by calling 800-995-6423, ext. 30485 or 202-307-3106, ext. 30485, or e-mail: amoss@bop.gov. Applicants may request a participant's manual of the current program through Andie Moss.

Number of Awards: One (1).

NIC Application Number: 01P04. This number should appear as a reference line in your cover letter and also in box 11 of Standard Form 424.

Catalog of Federal Domestic Assistance Number: 16.603.

Dated: May 22, 2001.
Larry Solomon,
Deputy Director, National Institute of Corrections.

[FR Doc. 01-13347 Filed 5-25-01; 8:45 am]

BILLING CODE 4410-36-M